DEPARTMENT OF HEALTH AND HUMAN SERVICES

Food and Drug Administration

[Docket No. 00F-0789]

National Center for Food Safety and Technology; Filing of Food Additive Petition

AGENCY: Food and Drug Administration, HHS.

ACTION: Notice.

SUMMARY: The Food and Drug Administration (FDA) is announcing that the National Center for Food Safety and Technology, Illinois Institute of Technology, has filed a petition proposing that the food additive regulations be amended to expand the conditions of safe use for X-radiation and electron beam energy sources for the treatment of prepackaged foods by irradiation.

FOR FURTHER INFORMATION CONTACT: Mark A. Hepp, Center for Food Safety and Applied Nutrition (HFS-215), Food and Drug Administration, 200 C St. SW., Washington, DC 20204, 202-418-3098.

SUPPLEMENTARY INFORMATION: Under the Federal Food, Drug, and Cosmetic Act (sec. 409(b)(5) (21 U.S.C. 348(b)(5))), notice is given that a food additive petition (FAP 0M4711) has been filed by the National Center for Food Safety and Technology, Illinois Institute of Technology, 6502 South Archer Rd., Summit-Argo, IL 60501-1933. The petition proposes to amend the food additive regulations in § 179.45 Packaging materials for use during the irradiation of prepackaged foods (21 CFR 179.45) to expand the conditions of safe use for X-radiation and electron beam energy sources for the treatment of prepackaged foods by irradiation.

The agency has determined under 21 CFR 25.32(j) that this action is of a type that does not individually or cumulatively have a significant effect on the human environment. Therefore, neither an environmental assessment nor an environmental impact statement is required.

Dated: February 14, 2000.
Alan L. Rulis,
Director, Office of Premarket Approval, Center for Food Safety and Applied Nutrition.

[FR Doc. 00-5014 Filed 3-1-00; 8:45 am]

BILLING CODE 4160-01-F